DEPARTMENT OF AGRICULTURE

Office of the Secretary

Notice of the Specialty Crop Committee's Listening Session

AGENCY: Research, Education, and Economics, USDA.

ACTION: Notice of listening session on specialty crops.

SUMMARY: In accordance with the Federal Advisory Committee Act, 5 U.S.C. App 2, the United States Department of Agriculture announces a listening session of the Specialty Crop Committee under the auspices of the National Agricultural Research, Extension, Education, and Economics Advisory Board.

DATES: The Specialty Crop Committee will hold a listening session from 9:30 a.m. to 4:45 p.m. on October 20, 2005, and from 8:30 a.m. to 11:45 a.m. on October 21, 2005.

The public may file written comments before or up to two weeks after the listening session with the contact person.

ADDRESSES: The listening session of the Specialty Crop Committee will take place at the Best Western Capitol Skyline Hotel, 10 I Street, SW., Washington, DC 20024-4299. You may submit comments by any of the following methods to the contact person identified in this notice: Mail/Hand-delivery: National Agricultural Research, Extension, Education, and Economics Advisory Board Office; U.S. Department of Agriculture; Room 344-A, Jamie L. Whitten Building; 1400 Independence Avenue, SW., Washington, DC 20250-2255; Fax: (202) 720-6199; E-mail: dhanfman@csrees.usda.gov.

FOR FURTHER INFORMATION CONTACT: Deborah Hanfman, Executive Director, National Agricultural Research, Extension, Education, and Economics Advisory Board, (202) 720-3684.

SUPPLEMENTARY INFORMATION: The Specialty Crop Committee was established in accordance with the Specialty Crops Competitiveness Act of 2004 under Title III, Section 303 of Public Law 108-465. This Committee is a permanent subcommittee of the National Agricultural Research Extension, Education, and Economics Advisory Board (the Board). The Committee's charge is to study the scope and effectiveness of research, extension, and economics programs affecting the specialty crop industry. The congressional legislation defines “specialty crops” as fruits, vegetables, tree nuts, dried fruits and nursery crops (including floriculture). In order to carry out its responsibilities effectively, the Committee is holding a listening session from October 20-21, 2005 in conjunction with the Advisory Board's biannual meeting scheduled from October 18-20, 2005 at the Best Western Capitol Skyline Hotel, 10 I Street, SW., Washington, DC. The listening session will elicit input from industry, national, and state representatives from organizations and institutions, local producers, and other individuals and groups interested in the specialty crop issues with which the Specialty Crop Committee is charged. The listening session will be organized into five specific panel sessions that correspond to one or more topics delineated in the Committee's charge by Congress. Panelists will provide a brief 10-minute statement that will address their respective panel topic(s) as well as suggest ways by which agricultural research, extension, and/or economics can enhance the specialty crop industry. Each panel session will be followed with questions by Committee members and brief public comments from the floor. Opportunities for general discussion from the floor will be held on Friday, October 21, 2005 from 10:30-11:30 a.m. Also, written comments by attendees and other individuals will be welcomed as additional public input before and up to two weeks following the listening session. All statements will become part of the official public record of the Board.

A copy of the draft agenda can be requested from the contact person cited above.

Done at Washington, DC this 8th day of September 2005.
Joseph J. Jen,
Under Secretary, Research, Education, and Economics.

[FR Doc. 05-18218 Filed 9-13-05; 8:45 am]

BILLING CODE 3410-22-P